DEPARTMENT OF COMMERCE

National Oceanic and Atmospheric Administration

[RTID 0648-XA079]

Mid-Atlantic Fishery Management Council (MAFMC); Public Hearings

AGENCY: National Marine Fisheries Service (NMFS), National Oceanic and Atmospheric Administration (NOAA), Commerce.

ACTION: Notice of public hearings and comment period.

SUMMARY: The Mid-Atlantic Fishery Management Council (Council) will hold five public hearings in March and April 2020 to solicit public input on an amendment to the Council's Mackerel, Squid, and Butterfish (MSB) Fishery Management Plan (FMP). The amendment focuses on the FMP's goals and objectives as well as permitting in the Illex squid fishery. The Council is soliciting written comments on the amendment through April 20, 2020.

DATES: March 2020 and April 2020 public hearings. Comments are due on April 20, 2020. See SUPPLEMENTARY INFORMATION for specific hearing dates.

ADDRESSES: See SUPPLEMENTARY INFORMATION for hearing addresses.

Council address: Mid-Atlantic Fishery Management Council, 800 N. State St., Suite 201, Dover, DE 19901; telephone: (302) 674-2331.

Comments: Comments will be taken at all hearings. Written comments may also be submitted via the following methods with the subject “MSB Goals and Illex Permits”:

—Email to jdidden@mafmc.org

—Via webform at: http://www.mafmc.org/comments/illex-permitting-msb-goals-amendment

—Mail to Dr. Chris Moore, Executive Director, Mid-Atlantic Fishery Management Council, 800 North State Street, Suite 201, Dover, DE 19901

—Fax to Dr. Chris Moore, Executive Director, Mid-Atlantic Fishery Management Council at (302) 674-5399

FOR FURTHER INFORMATION CONTACT: Christopher M. Moore, Ph.D. Executive Director, Mid-Atlantic Fishery Management Council; telephone: (302) 526-5255. The Council's website, www.mafmc.org also has details on the meetings and background materials.

SUPPLEMENTARY INFORMATION:

Hearing Locations—The Council will hold five public hearings:

1. Monday, March 30, 2020, 6 p.m.; Mass. Dept. Marine Fisheries; Annisquam River Marine Fisheries Field Station; 30 Emerson Ave., Gloucester, MA 01930; phone: (978) 282-0308.

2. Tuesday, March 31, 2020, 6 p.m.; Corless Auditorium, University of Rhode Island Bay Campus; 215 South Ferry Road; Narragansett, RI 02882; phone: (401) 874-6440.

3. Wednesday, April 1, 2020, 6 p.m.; Gurney's Inn; 290 Old Montauk Highway; Montauk, NY 11954; phone: (631) 668-2345.

4. Thursday, April 2, 2020, 6 p.m.; Grand Hotel of Cape May; 1045 Beach Ave; Cape May, NJ 08204; 800-257-8550.

5. Monday, April 13, 2020, 6 p.m.; This meeting will be conducted via webinar accessible via the internet from the Council's website, http://www.mafmc.org/actions/illex-permitting-msb-goals-amendment. The Virginia Marine Resources Commission will also provide in-person access to the webinar at its office at: 380 Fenwick Road, Ft. Monroe, VA 23651; phone: (757) 247-2200.

Background

This amendment considers (A) revisions to the MSB FMP goals and objectives and (B) modifications to Illex fishery permitting and related management measures, including a potential requalification of permits that could reduce the number of permits in the Illex fishery. The Council is seeking public input on all aspects of this action. Details on potential requalification criteria and other related management measures under consideration are available in the public hearing document, available at http://www.mafmc.org/actions/illex-permitting-msb-goals-amendment.

Special Accommodations

These hearings are physically accessible to people with disabilities. Requests for sign language interpretation or other auxiliary aid should be directed to M. Jan Saunders, (302) 526-5251, at least 5 days prior to any meeting date.

Authority: 16 U.S.C. 1801 et seq.

Dated: March 11, 2020.
Tracey L. Thompson,
Acting Deputy Director, Office of Sustainable Fisheries, National Marine Fisheries Service.

[FR Doc. 2020-05305 Filed 3-13-20; 8:45 am]

BILLING CODE 3510-22-P